DEPARTMENT OF LABOR

Employment and Training Administration

[TA-W-71,209]

A.J. Oster, LLC, Allentown, PA; Notice of Termination of Investigation

Pursuant to Section 221 of the Trade Act of 1974, as amended, an investigation was initiated in response to a petition filed on June 15, 2009, by a company official on behalf of workers of A.J. Oster, LLC, Allentown, Pennsylvania.

The petitioner has requested that the petition be withdrawn. Accordingly, the investigation has been terminated.

Signed at Washington, DC, this 30th day of June 2009.
Linda G. Poole,
Certifying Officer, Division of Trade Adjustment Assistance.

[FR Doc. E9-18056 Filed 7-28-09; 8:45 am]

BILLING CODE 4510-FN-P